DEPARTMENT OF TRANSPORTATION

Federal Aviation Administration

Notice of Intent To Rule on Application 04-02-U-00-COU To Use the Revenue From a Passenger Facility Charge (PFC) at Columbia Regional Airport, Columbia, MO

AGENCY: Federal Aviation Administration (FAA), DOT.

ACTION: Notice of intent to rule on application.

SUMMARY: The FAA proposes to rule and invites public comment on the application to use the revenue from a PFC at Columbia Regional Airport under the provisions of the 49 U.S.C. 40117 and part 158 of the Federal Aviation Regulations (14 CFR part 158).

DATES: Comments must be received on or before October 12, 2004.

ADDRESSES: Comments on this application may be mailed or delivered in triplicate to the FAA at the following address: ATTN: ACE-610B, 901 Locust, Kansas City, Missouri 64106.

In addition, one copy of any comments submitted to the FAA must be mailed or delivered to William E. Boston, III, Airport Manager, for the City of Columbia at the following address: 701 E. Broadway, Columbia, MO 65201.

Air carriers and foreign air carriers may submit copies of written comments previously provided to the City of Columbia under section 158.23 of part 158.

FOR FURTHER INFORMATION CONTACT: Lorna K. Sandridge, PFC Program Manager, 901 Locust, Kansas City, MO 64106, (816) 329-2641. The application may be reviewed in person at this same location.

SUPPLEMENTARY INFORMATION: The FAA proposes to rule and invites public comment on the application to use the revenue from a PFC at Columbia Regional Airport under the provisions of the 49 U.S.C. 40117 and part 158 of the Federal Aviation Regulations (14 CFR part 158).

On September 2, 2004, the FAA determined that the applicaiotn to use the revenue from a PFC submitted by the City of Columbia, Missouri, was substantially complete within the requirements of § 158.25 of part 158. The FAA will approve or disapprove the application, in whole or in part, no later than December 19, 2004.

The following is a brief overview of the application.

Proposed charge expiration date: October 1, 2012.

Level of the PFC: $4.50.

Total estimated PFC revenue: $7,759.

Brief description of proposed project(s): Replacement of snow plow/spreader truck.

Any person may inspect the application in person at the FAA office listed above under FOR FURTHER INFORMATION CONTACT and at the FAA regional Airports office located at: 901 Locust, Kansas City, MO 64106.

In addition, any person may, upon request, inspect the application, notice and other documents germane to the application in person at the Columbia Regional Airport.

Issued in Kansas City, Missouri on September 2, 2004.
George A. Hendon,
Manager, Airports Division, Central Region.

[FR Doc. 04-20491 Filed 9-9-04; 8:45 am]

BILLING CODE 4910-13-M